DEPARTMENT OF TRANSPORTATION

Federal Aviation Administration

14 CFR Part 39

[Docket No. FAA-2005-20500; Directorate Identifier 2004-NM-235-AD; Amendment 39-14191; AD 2005-15-02]

RIN 2120-AA64

Airworthiness Directives; Airbus Model A320-111 Airplanes and Model A320-200 Series Airplanes

AGENCY: Federal Aviation Administration (FAA), Department of Transportation (DOT).

ACTION: Final rule.

SUMMARY: The FAA is adopting a new airworthiness directive (AD) that applies to certain Airbus Model A320-111 airplanes and Model A320-200 series airplanes. This AD requires post-maintenance bleeding of accumulated air from, or ground functional testing of, the ram air turbine (RAT) system; modifying and reidentifying the airborne ground check module of the RAT system; and replacing the RAT reducer assembly if applicable. This AD is prompted by reports of unsuccessful in-flight RAT tests during which a deployed RAT failed to pressurize the blue hydraulic circuit of the RAT system. We are issuing this AD to prevent failure of the RAT during an in-flight emergency, which could lead to loss of hydraulic and electrical power and reduced controllability of the airplane.

DATES: This AD becomes effective August 25, 2005.

The incorporation by reference of certain publications listed in the AD is approved by the Director of the Federal Register as of August 25, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20500; the directorate identifier for this docket is 2004-NM-235-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for Airbus Model A320 series airplanes. That action, published in the Federal Register on March 8, 2005 (70 FR 11170), proposed to require post-maintenance bleeding of accumulated air from, or ground functional testing of, the ram air turbine (RAT) system; modifying and reidentifying the airborne ground check module of the RAT system; and replacing the RAT reducer assembly if applicable.

Comments

We provided the public the opportunity to participate in the development of this AD. We have considered the comments that have been submitted on the proposed AD.

Support for the Proposed AD

One commenter supports the proposed AD.

Request To Revise Applicability

One commenter requests that we change a part number that was incorrectly referenced in the applicability of the proposed AD. The commenter states that part number (P/N) 760106 is incorrect and that it should be changed to P/N 769106.

We agree with this request. P/N 760106 is a part number that is not referenced by the Airbus service bulletin; it appeared due to a typographical error. We have corrected paragraph (c) of the final rule to read P/N 769106, as specified in the Airbus service bulletin and the French airworthiness directive.

Request To Revise Requirement for Bleeding of Blue Hydraulic Circuit

The same commenter requests that we revise the wording of paragraphs (f) and (g) of the proposed AD. The commenter asserts that the statement “after performing any maintenance on the blue hydraulic circuit” that appears in paragraphs (f) and (g) is too vague and can be taken as requiring unnecessary bleeding of the blue hydraulic circuit. The commenter suggests that we revise this wording to read “after performing any maintenance that would normally require bleeding of the blue hydraulic circuit (as instructed by the related AMM procedure).” The commenter states that such wording would eliminate any unneeded maintenance introduced by the proposed AD and still ensure that, during any in-flight emergency, a RAT system failure does not occur.

We agree with this request. We always seek to use unambiguous language and the specified statement could be taken as requiring unnecessary bleeding of the blue hydraulic circuit. Therefore, to ensure that bleeding of the blue hydraulic circuit must be performed only as a necessary part of a maintenance action, we have revised paragraphs (f) and (g) of the final rule to reflect the commenter's wording.

Explanation of Change to Applicability

The FAA has revised the applicability of the proposed AD to identify model designations as published in the most recent type certificate data sheet for the affected models.

Conclusion

We have carefully reviewed the available data, including the comments that have been submitted, and determined that air safety and the public interest require adopting the AD with the changes described previously. We have determined that these changes will neither increase the economic burden on any operator nor increase the scope of the AD.

Costs of Compliance

This AD will affect about 130 airplanes of U.S. registry.

The system bleed/functional test will take about 1 work hour per airplane, at an average labor rate of $65 per work hour. Based on these figures, the estimated cost of the required actions for U.S. operators is $8,450, or $65 per airplane.

The airborne ground check module (AGCM) replacement will take about 2 work hours per airplane, at an average labor rate of $65 per work hour. Required parts will be supplied at no charge. Based on these figures, the estimated cost of this action for U.S. operators is $16,900, or $130 per airplane.

The reducer replacement, for subject airplanes, will take about 1 work hour per airplane, at an average labor rate of $65 per work hour. Required parts will be supplied at no charge. Based on these figures, the estimated cost of this action for U.S. operators is $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-15-02 Airbus: Amendment 39-14191. Docket No. FAA-2005-20500; Directorate Identifier 2004-NM-235-AD.

Effective Date

(a) This AD becomes effective August 25, 2005.

Affected ADs

(b) None.

Applicability: (c) This AD applies to Airbus Model A320-111 airplanes and Model A320-200 series airplanes, certificated in any category; equipped with Hamilton Sundstrand airborne ground check module (AGCM) having part number 769104, 769105, or 769106 installed; except those airplanes on which Airbus Modification 27189 has been done in production and on which Airbus Modification 28413 has not been done.

Unsafe Condition

(d) This AD was prompted by reports of unsuccessful in-flight ram air turbine (RAT) tests during which a deployed RAT failed to pressurize the blue hydraulic circuit of the RAT system. We are issuing this AD to prevent failure of the RAT system during an in-flight emergency, which could lead to loss of hydraulic and electrical power and reduced controllability of the airplane.

Compliance: (e) You are responsible for having the actions required by this AD performed within the compliance times specified, unless the actions have already been done.

RAT System Bleeding/Functional Test

(f) For airplanes on which maintenance has been performed on the blue hydraulic circuit as of the effective date of this AD: Within 3 days or 20 flight hours after the effective date of this AD, whichever occurs first, bleed accumulated air from, or perform a ground functional test of, the RAT system; by accomplishing all the actions specified in Airbus All Operators Telex (AOT) A320-29A1112, Revision 01, dated April 8, 2004. Thereafter, bleed the blue hydraulic circuit as specified in the AOT within 3 days or 20 flight hours after performing any maintenance that would normally require bleeding of the blue hydraulic circuit, (as instructed by the related aircraft maintenance manual (AMM) procedure).

(g) For airplanes on which maintenance has not been performed on the blue hydraulic circuit as of the effective date of this AD: Within 3 days or 20 flight hours after performing any maintenance that would normally require bleeding of the blue hydraulic circuit (as instructed by the related AMM procedure), bleed the blue hydraulic circuit by accomplishing all the actions specified in Airbus AOT A320-29A1112, Revision 01, dated April 8, 2004.

Replacement of AGCM and Reducer

(h) Within 35 months after the effective date of this AD, replace the AGCM with a modified and reidentified AGCM; and replace the reducer with a new reducer if applicable; in accordance with the Accomplishment Instructions of Airbus Service Bulletin A320-29-1111, dated June 29, 2004. Replacing the AGCM, and the reducer if applicable, ends the actions required by paragraphs (f) and (g) of this AD.

Note 1: Airbus Service Bulletin A320-29-1111 refers to Hamilton Sundstrand Service Bulletin ERPS13GCM-29-5, dated June 29, 2004, as an additional source of service information for modifying and reidentifying the AGCM.

Alternative Methods of Compliance (AMOCs)

(i) The Manager, International Branch, ANM-116, Transport Airplane Directorate, FAA, has the authority to approve AMOCs for this AD, if requested in accordance with the procedures found in 14 CFR 39.19.

Related Information

(j) French airworthiness directive F-2004-150, dated September 1, 2004, also addresses the subject of this AD.

Material Incorporated by Reference

(k) You must use All Operators Telex (Airbus) A320-29A1112, Revision 01, dated April 8, 2004; and Airbus Service Bulletin A320-29-1111, dated June 29, 2004; as applicable, to perform the actions that are required by this AD, unless the AD specifies otherwise. The Director of the Federal Register approves the incorporation by reference of these documents in accordance with 5 U.S.C. 552(a) and 1 CFR part 51. To get copies of the service information, contact Airbus, 1 Rond Point Maurice Bellonte, 31707 Blagnac Cedex, France. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on July 8, 2005.
Ali Bahrami,
Manager, Transport Airplane Directorate, Aircraft Certification Service.

[FR Doc. 05-14087 Filed 7-20-05; 8:45 am]

BILLING CODE 4910-13-P